ENVIRONMENTAL PROTECTION AGENCY

[FRL-7631-5]

Draft Total Maximum Daily Load (TMDL) for the Wabash River Watershed, Ohio

AGENCY: Environmental Protection Agency (EPA).

ACTION: Notice and request for comments.

SUMMARY: This notice announces the availability of the EPA document identifying segments and associated pollutants of nitrates/nitrites, phosphorus, and Total Suspended Solids (TSS) in the Wabash River, in Mercer County, Ohio, and requests public comment.

The TMDL was developed to attain water quality standards and designated uses (Warmwater Habitat) established for the Wabash River, which is on the Ohio 2002 303(d) list. Segments and pollutants were listed and prioritized by the State for TMDL assessment, and aquatic life use and riparian habitat impairments were identified. TMDLs specify the maximum amount of a pollutant a waterbody can assimilate and still meet water quality standards. Based upon that maximum amount, TMDLs allocate both pollutant loads to sources and a margin of safety (MOS). In this way, the TMDL process links the development and implementation of control actions to the attainment and maintenance of water quality standards and designated uses. This TMDL was developed by EPA, Region 5, at the request of the State of Ohio. EPA is providing the public the opportunity to review its document in accordance with section 303(d) of the Clean Water Act (CWA), 33 U.S.C. 1313(d), and 40 CFR 130.7. EPA will consider public comments in its final document.

DATES: Comments on this document must be received in writing by March 27, 2004.

ADDRESSES: Hard copies are available at: Mercer County Library, 303 N. Main St., Celina, Ohio, and Coldwater Public Library, 305 W. Main St., Coldwater, Ohio.

Written comments may be submitted to: Jean Chruscicki (WW-16J), U.S. Environmental Protection Agency, 77 West Jackson Boulevard, Chicago, Illinois 60604-3590.

As an alternative, EPA will accept comments electronically. Comments should be sent to the following Internet E-mail Address: chruscicki.jean@epa.gov.

FOR FURTHER INFORMATION CONTACT: Jean Chruscicki,Watersheds and Wetlands Branch, at the EPA address noted above or by telephone at (312) 353-1435.

SUPPLEMENTARY INFORMATION: Section 303(d) of the CWA requires that each state identify those waters for which existing technology-based pollution controls are not stringent enough to attain or maintain state water quality standards. For those waters, states are required to establish TMDLs according to a priority ranking.

Dated: February 25, 2004.
Jo Lynn Traub,
Director, Water Division, EPA Region 5.

[FR Doc. 04-4826 Filed 3-3-04; 8:45 am]

BILLING CODE 6560-50-P